DEPARTMENT OF ENERGY

Federal Energy Regulatory Commission

Notice of FERC Staff Participation at MISO Conference on MISO Open Access Transmission and Energy Markets Tariff

May 13, 2003.

The Federal Energy Regulatory Commission hereby gives notice that members of its staff will attend a Midwest Independent Transmission System Operator, Inc. (MISO) conference on its Open Access Transmission and Energy Markets Tariff. The staff's attendance is part of the Commission's ongoing outreach efforts. The conference is sponsored by MISO, and will be held on May 19 and 20, 2003, at 10 a.m. at MISO's headquarters, 701 City Center Drive, Carmel, IN 46032. This meeting is open to the public. The meeting may discuss matters at issue in Docket No. RM01-12-000, Remedying Undue Discrimination Through Open Access Transmission Service and Standard Electricity Market Design; in Docket No. EL02-65-000, et al., Alliance Companies, et al.; and in Docket No. RT01-87-000, et al., Midwest Independent Transmission System Operator, Inc.

For more information, contact Patrick Clarey, Office of Markets, Tariffs and Rates, Federal Energy Regulatory Commission at (317) 249-5937 or patrick.clarey@ferc.gov or Christopher Miller, Office of Markets, Tariffs and Rates, Federal Energy Regulatory Commission at (317) 249-5936 or christopher.miller@ferc.gov.

Magalie R. Salas,
Secretary.

[FR Doc. 03-12440 Filed 5-16-03; 8:45 am]

BILLING CODE 6717-01-P